DEPARTMENT OF COMMERCE

National Oceanic and Atmospheric Administration

Notice of Availability of the Record of Decision in the Case of the Goat Canyon Enhancement Project at the Tijuana River National Estuarine Research Reserve

AGENCY: The Estuarine Reserves Division, Office of Ocean and Coastal Resource Management, National Ocean Service, National Oceanic and Atmospheric Administration, U.S. Department of Commerce.

ACTION: Notice of availability.

SUMMARY: Notice is hereby given that the Office of Ocean and Coastal Resource Management (OCRM), National Ocean Service (NOS), National Oceanic and Atmospheric Administration (NOAA), U.S. Department of Commerce has signed the Record of Decision (ROD) in the case of the Goat Canyon Enhancement Project at the Tijuana River National Estuarine Research Reserve. All requirements of the National Environmental Policy Act have been fulfilled. NOAA has concurred with the decision to construct two sediment basins and to undertake mitigation pursuant to the section 7 consultation with the United States Fish and Wildlife Service and the California State Historic Preservation Office.

To Obtain a Copy of the ROD Contact: Ms. Nina Garfield, (301) 563-1171, Estuarine Reserves Division, Office of Ocean and Coastal Resource Management, National Ocean Service, NOAA, 1305 East West Highway, N/ORM2, Silver Spring, MD 20910. Copies of the ROD are available upon request to the Estuarine Reserves Division.

(Federal Domestic Assistance Catalog Number 11.420 (Coastal Zone Management) Research Reserves)
Dated: September 11, 2003.
Richard W. Spinrad,
Assistant Administrator, Ocean Services and Coastal Zone Management, National Oceanic and Atmospheric Administration.

[FR Doc. 03-23699 Filed 9-16-03; 8:45 am]

BILLING CODE 3510-08-M